COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a fourth briefing via web conference or phone call on Thursday, April 7, 2022, at 2:00 p.m. (ET). The purpose of the web conference is for the Committee to review and vote on an interim advisory memorandum on zoning.

DATES: April 7, 2022, Thursday, at 2:00 p.m. (ET):

Join by Web Conference: WebEx link: https://tinyurl.com/2p9xhe7m; password, if needed: USCCR-CT

Join by Phone Only, Dial: 1-800-360-9505; Access Code: 2760 985 0896#

FOR FURTHER INFORMATION CONTACT: Barbara Delaviez at ero@usccr.gov or by phone at 202-539-8246.

SUPPLEMENTARY INFORMATION: This meeting is available to the public through the WebEx link and/or phone number/access code above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web links provided for these meeting.

Members of the public are entitled to make comments during the open period at the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Thursday, April 7, 2022, at 2:00 p.m. (ET)

I. Welcome and Roll Call

II. Review and Vote on Interim Memo on Zoning

III. Public Comment

IV. Next Steps

V. Adjournment

Dated: March 31, 2022.
David Mussatt,
Supervisory Chief, Regional Programs Unit.

[FR Doc. 2022-07199 Filed 4-5-22; 8:45 am]

BILLING CODE P